DEPARTMENT OF ENERGY

Biological and Environmental Research Advisory Committee

AGENCY: Department of Energy, Office of Science.

ACTION: Notice of open teleconference.

SUMMARY: This notice announces a teleconference of the Biological and Environmental Research Advisory Committee (BERAC). The Federal Advisory Committee Act (Pub. L. 92-463, 86 Stat. 770) requires that public notice of these meetings be announced in the Federal Register.

DATES: Thursday, September 27, 2012; 11 a.m. to 1 p.m. (EDT)

ADDRESSES: Participants may contact Ms. Joanne Corcoran by September 25, 2012 at email: joanne.corcoran@science.doe.gov or by phone at (301) 903-6488, to receive a call-in number. Public participation is welcomed; however, the number of teleconference lines is limited and available on a first-come, first-served basis.

FOR FURTHER INFORMATION CONTACT: Dr. David Thomassen, Designated Federal Officer, BERAC, U.S. Department of Energy, Office of Science, Office of Biological and Environmental Research, SC-23/Germantown Building, 1000 Independence Avenue SW., Washington, DC 20585-1290. Phone (301) 903-9817; fax (301) 903-5051 or email: david.thomassen@science.doe.gov. The most current information concerning this meeting can be found on the Web site: http://science.energy.gov/ber/berac/meetings/.

SUPPLEMENTARY INFORMATION: Purpose of the Meeting: To provide advice on a continuing basis to the Director, Office of Science of the Department of Energy, on the many complex scientific and technical issues that arise in the development and implementation of the Biological and Environmental Research Program.

Tentative Agenda Topics:

• Discussion of the final edits to the BERAC report based on the charge letter dated, September 14, 2011, (http://science.energy.gov/~/media/ber/berac/pdf/Tech-charge.pdf).

Public Participation: The teleconference meeting is open to the public. If you would like to file a written statement with the Committee, you may do so either before or after the meeting. If you would like to make oral statements regarding the item on the agenda, you should contact David Thomassen at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 45 days at the BERAC Web site: http://science.energy.gov/ber/berac/meetings/berac-minutes/.

Issued in Washington, DC on August 30, 2012.
LaTanya R. Butler,
Acting Deputy Committee Management Officer.

[FR Doc. 2012-22073 Filed 9-6-12; 8:45 am]

BILLING CODE 6450-01-P